DEPARTMENT OF COMMERCE

National Institute of Standards and Technology

Visiting Committee on Advanced Technology

AGENCY: National Institute of Standards and Technology, Department of Commerce.

ACTION: Notice of partially closed meeting.

SUMMARY: National Institute of Standards and Technology (NIST)'s Visiting Committee on Advanced Technology (VCAT or Committee) will meet on Tuesday, June 11, 2024 from 9 a.m. to 6 p.m. mountain time and Wednesday, June 12, 2024, from 8:30 a.m. to 12 p.m. mountain time.

DATES: The VCAT will meet on Tuesday, June 11, 2024 from 9 a.m. to 6 p.m. mountain time and Wednesday, June 12, 2024, from 8:30 a.m. to 12 p.m. mountain time. The portion of the meeting that is closed to the public will take place on Wednesday, June 12, 2024, from 8:30 a.m. to 10:30 a.m. mountain time.

ADDRESSES: The meeting will be held in the Katharine Blodgett Gebbie Laboratory Conference Room, Room 81-1A106, at NIST, 325 Broadway Street, Boulder, Colorado 80305 with an option to participate via Zoom. Please note admittance instructions under the SUPPLEMENTARY INFORMATION section of this notice.

FOR FURTHER INFORMATION CONTACT: Stephanie Shaw, VCAT, NIST, 100 Bureau Drive, Mail Stop 1060, Gaithersburg, Maryland 20899-1060, telephone number 240-446-6000. Ms. Shaw's email address is stephanie.shaw@nist.gov.

SUPPLEMENTARY INFORMATION:

Authority: 15 U.S.C. 278 and the Federal Advisory Committee Act, 5 U.S.C. 1001 et seq.

Pursuant to the Federal Advisory Committee Act, 5 U.S.C. 1001 et seq., notice is hereby given that the VCAT will meet on the dates and at the times given in the DATES section.

The meeting will be partially closed as set forth in the DATES section. The VCAT is composed of not fewer than nine members appointed by the NIST Director, eminent in such fields as business, research, new product development, engineering, labor, education, management consulting, environment, and international relations. The primary purpose of this meeting is for the VCAT to review and make recommendations regarding general policy for NIST, its organization, its budget, and its programs within the framework of applicable national policies as set forth by the President and the Congress. The agenda for the open portion of the meeting will include an update on major programs at NIST. It will also include discussions on NIST facilities, programmatic updates on safety, measurement science, climate, and energy technologies, and artificial intelligence. During a closed session on Wednesday, June 12, 2024, from 8:30 a.m. until 10:30 a.m. mountain time, the VCAT will discuss with senior NIST leadership the agency's current and future budgets and related programmatic prioritization approaches, the premature disclosure of which would significantly frustrate implementation of programmatic actions the agency might propose. This session is closed in accordance with 5 U.S.C. 552b(c)(9)(B). The agenda is subject to change if needed to accommodate Committee business. The final agenda will be posted on the NIST website at http://www.nist.gov/director/vcat/agenda.cfm.

Individuals and representatives of organizations who would like to offer comments and suggestions related to the Committee's business are invited to request a place on the agenda by no later than 5 p.m. eastern time, Friday, May 31, 2024 by contacting Stephanie Shaw at stephanie.shaw@nist.gov. Approximately one-half hour will be reserved for public comments and speaking times will be assigned on a first-come, first-served basis. The amount of time per speaker will be determined by the number of requests received but, is likely to be about 3 minutes each. The exact time and date for public comments will be included in the final agenda that will be posted on the NIST website at http://www.nist.gov/director/vcat/agenda.cfm. Questions from the public will not be considered during this period. Speakers who wish to expand upon their oral statements, those who had wished to speak but could not be accommodated on the agenda, and those who were unable to attend in person or via webinar are invited to submit written statements to Stephanie Shaw at stephanie.shaw@nist.gov.

For participants desiring to attend via Zoom, please contact Ms. Shaw at stephanie.shaw@nist.gov by 5 p.m. eastern time, Friday, May 31, 2024, for detailed instructions on how to join the webinar. All visitors to the NIST site are required to pre-register to be admitted. Please submit your name, time of arrival, email address and phone number to Stephanie Shaw, stephanie.shaw@nist.gov by 5 p.m. eastern time, Friday, May 31, 2024. Non-U.S. citizens must submit additional information; please contact Ms. Shaw at stephanie.shaw@nist.gov. For participants attending in person, please note that federal agencies, including NIST, can only accept a state-issued driver's license or identification card for access to federal facilities if such license or identification card is issued by a state that is compliant with the REAL ID Act of 2005 (Pub. L. 109-13), or by a state that has an extension for REAL ID compliance. NIST currently accepts other forms of federal-issued identification in lieu of a state-issued driver's license. For detailed information please visit: http://nist.gov/public_affairs/visitor/.

Alicia Chambers,
NIST Executive Secretariat.

[FR Doc. 2024-11332 Filed 5-22-24; 8:45 am]

BILLING CODE 3510-13-P